DEPARTMENT OF TRANSPORTATION

Federal Aviation Administration

14 CFR Part 71

[Docket No. FAA-2025-3585; Airspace Docket No. 25-AAL-143]

RIN 2120-AA66

Amendment of United States Area Navigation Route Q-10 and Revocation of Alaska Area Navigation Routes J-804R and J-889R in Alaska

AGENCY: Federal Aviation Administration (FAA), DOT.

ACTION: Notice of proposed rulemaking (NPRM).

SUMMARY: This action proposes to amend United States Area Navigation (RNAV) Route Q-10 and revoke Alaska RNAV Routes J-804R and J-889R in Alaska. These actions are part of a large and comprehensive airway modernization project for the state of Alaska.

DATES: Comments must be received on or before January 26, 2026.

ADDRESSES: Send comments identified by FAA Docket No. FAA-2025-3585 and Airspace Docket No. 25-AAL-143 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11K, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Steven Roff, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would amend the airway structure as necessary to preserve the safe and efficient flow of air traffic within the National Airspace System.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Western Service Center, Federal Aviation Administration, 2200 South 216th St., Des Moines, WA 98198.

Incorporation by Reference

Alaska RNAV Routes are published in paragraph 2005 and United States RNAV Routes are published in paragraph 2006 of FAA Order JO 7400.11, Airspace Designations and Reporting Points, which is incorporated by reference in 14 CFR 71.1 on an annual basis. This document proposes to amend the current version of that order, FAA Order JO 7400.11K, dated August 4, 2025, and effective September 15, 2025. These updates would be published in the next update to FAA Order JO 7400.11. FAA Order JO 7400.11K, which lists Class A, B, C, D, and E airspace areas, air traffic service routes, and reporting points, is publicly available as listed in the ADDRESSES section of this document.

Background

This proposed action is a part of a large and comprehensive airway modernization project for the state of Alaska. The FAA's goal is to decommission underutilized and obsolete navigational aids (NAVAID) and to modernize Alaska's route structure using satellite-based RNAV. Industry and general aviation users have supported the FAA's goal to transition the Alaskan en route navigation structure away from dependency on ground-based NAVAIDs, moving instead to develop and improve the RNAV route structure. The result of these actions contributes to the FAA's goal of transitioning the National Airspace System (NAS) to utilize Performance-Based Navigation (PBN) through use of the Global Positioning System (GPS) as the primary means of aircraft navigation. A traffic study was conducted that examined the utilization of J-804R and J-889R. The study concluded that J-804R was routinely used and J-889R was seldom assigned by Anchorage Air Route Traffic Control Center (ZAN) due to the availability of direct or more efficient route alternatives.

To mitigate the loss of J-804R, the FAA is proposing to extend Q-10 along essentially the same track as the current J-804R. The amended track would extend between Middleton Island, AK, Very High Frequency Omnidirectional Range/Distance Measuring Equipment (VOR/DME), the SNOUT, AK, Fix, the EEDEN, AK, Fix, and the EURKA, AK, Waypoint (WP). EURKA is a new WP and will be established on the United States and Canadian Border.

The FAA is proposing to revoke J-889R in its entirety due to its lack of usage.

The Proposal

The FAA is proposing an amendment to 14 CFR part 71 by revoking Alaska RNAV Routes J-804R and J-889R and amending United States RNAV Route Q-10 in Alaska.

J-804R: J-804R currently extends between the Anchorage, AK, VOR/DME and the FRIED, OP, Canada, WP, excluding the airspace within Canada. As part of the transition away from ground-based NAVAIDS, the FAA is proposing to revoke J-804R in its entirety.

J-889R: J-889R currently extends between the NOWEL, AK, Fix and the LAIRE, AK, Fix. Due to its lack of use and as part of the transition away from ground-based NAVAIDS, the FAA is proposing to revoke J-889R in its entirety.

Q-10: Q-10 currently extends between the Kukuliak, AK, VOR/DME and the Middleton Island, AK, VOR/DME. As a mitigation to the loss of J-804R, the FAA is proposing to extend Q-10 beyond the Middleton Island VOR/DME. As amended, Q-10 would extend between the Kukuliak VOR/DME and the EURKA, OP, Canada, WP.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1G, “FAA National Environmental Policy Act Implementing Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11K, Airspace Designations and Reporting Points, dated August 4, 2025, and effective September 15, 2025, is amended as follows:

Paragraph 2005 Alaska Area Navigation Routes.

* * * * *

J-804R [Removed]

J-889R [Removed]

* * * * *

Paragraph 2006 United States Area Navigation Routes.

* * * * *

Q-10 Kukuliak, AK (ULL) to Fried, OP [Amended]
Kukuliak, AK (ULL) | VOR/DME | (Lat. 63°41′32.39″ N, long. 170°28′11.65″ W)
Emmonak, AK (ENM) | VOR/DME | (Lat. 62°47′04.52″ N, long. 164°29′15.12″ W)
ANIAK, AK | FIX | (Lat. 61°37′02.22″ N, long. 159°37′52.61″ W)
Sparrevohn, AK (SQA) | VOR/DME | (Lat. 61°05′54.89″ N, long. 155°38′04.49″ W)
Kenai, AK (ENA) | VOR/DME | (Lat. 60°36′52.93″ N, long. 151°11′42.87″ W)
Middleton Island, AK (MDO) | VOR/DME | (Lat. 59°25′18.50″ N, long. 146°21′00.05″ W)
EURKA, OP | WP | (Lat. 54°24′41.98″ N, long. 133°59′26.91″ W)

* * * * *

Issued in Washington, DC, on December 8, 2025.
Alex W. Nelson,
Acting Manager, Rules and Regulations Group.

[FR Doc. 2025-22634 Filed 12-11-25; 8:45 am]

BILLING CODE 4910-13-P